DEPARTMENT OF DEFENSE

Department of the Army; Corps of Engineers

Intent To Prepare a Draft Environmental Impact Statement, Lower Snake River Reservoirs Navigation Maintenance, in the States of Washington and Idaho

Correction

In notice document 04-27573 beginning on page 75308 in the issue of Thursday, December 16, 2004 make the following correction:

On page 75308, in the third column, under SUMMARY, four lines from the bottom “Tastabend ” should read “Fastabend ”.

[FR Doc. C4-27573 Filed 12-21-04; 8:45 am]

BILLING CODE 1505-01-D